DEPARTMENT OF THE INTERIOR

National Park Service

Delaware Water Gap; National Recreation Area, New Jersey and Pennsylvania

AGENCY: National Park Service, Interior.

ACTION: Notice of realty action.

SUMMARY: With this notice the National Park Service is notifying the public of an adjustment to the boundary of the Delaware Water Gap National Recreation Area to include certain lands within the boundary of the Recreation Area.

ADDRESSES AND INFORMATION: The maps on which these tracts are depicted are Segments 5 and 83. These maps were prepared by the National Park Service, Land Resources Program Center, Philadelphia, Pennsylvania. Detailed information concerning this boundary revision, including precise legal descriptions, Land Protection Plans, environmental assessments and cultural reports are available at the Superintendent's office at Delaware Water Gap National Recreation Area, River Road, Bushkill, PA 18324 (570-588-2435); or the National Park Service, Land Resources Program Center, Northeast Region, 200 Chestnut Street, Philadelphia, Pennsylvania 19106.

SUPPLEMENTRY INFORMATION: Sec. 3(b), of Pub. L. 89-158, (authorizing Act), 79 Stat. 613, as amended, authorizes the Secretary of the Interior to make adjustments in the boundary of the area by publication of the amended description thereof in the Federal Register and acquire, by such means as he may deem to be in the public interest, including an exchange of excluded for included lands or interests therein with or without the payment or receipt of money to equalize the values, additional lands and interests therein included in the area by reason of the boundary adjustment.

In accordance with the Department of the Interior Departmental Manual, 245 DM 1.1 C.(7), the Director is delegated the Secretary's authority to carry out the provisions of the Land and Water Conservation Fund Act of 1965, as amended (16 U.S.C. 4601-1-4 through 1-11) and Sections 6 and 7 of Executive Order 11200 including the reporting requirements found in Title 16 U.S.C., Sections 4601-6a(h) and 4601-10d.

The Director, under Director's Order #3: Delegation of Authority, Section 15, 4 states “* * * and field directors are authorized to perform the appraisal and land acquisition functions as established in Public Law 91-646, title III (42 U.S.C. 4651-4655) and implemented by 49 CFR 24.

The boundaries mentioned above are specified in Section 2(a) of the authorizing Act as “lands and interests therein within the boundaries of the area, as generally depicted on the drawing entitled, ‘Proposed Tocks Island National Recreation Area,’ dated and numbered September 1962, NRA-TI-7100.”

In a subsequent notice of Establishment published in the Federal Register, Vol. 42, No. 109, June 7, 1977, the Secretary of the Interior gave notice of the establishment of the Recreation Area. In this notice, he stated that “adjustments may be subsequently made in the boundaries of the area by publication of the amendments to the boundary description thereof in the Federal Register as provided in the authorizing act”.

In a further Notice of Revision of Park Boundaries published in the Federal Register, Vol. 56, No. 132, Wednesday, July 10, 1991, the Regional Director, Mid-Atlantic Region, gave notice of a boundary revision as provided in the authorizing act.

Notice is hereby given that the boundary of the Delaware Water Gap National Recreation Area has been revised pursuant to the above Act, to include the following tracts:

Tract No. | Acreage
8306 | 0.20 FEE
570 | 0.66 FEE
572 | 3.12 ROW

Tract 8306 was inadvertently omitted from the boundary revision published in Federal Register; Vol. 56, No. 132 dated July 10, 1991, mentioned above. This tract of land is completely surrounded on three sides by park land already within the boundary. The fourth side of this tract is bounded by State Highway 51001 (Milford Road). With the inclusion of this tract the boundary is uninterrupted on the West side of Milford Road for more than a mile.

A revision to the boundary to include Tracts 570 and 572 will allow for an exchange of lands between the United States of America and Union Motor Lodge, Incorporated. The park will receive a wooded parcel of land which is contiguous with the existing boundary, and also use of an access road that parallels the fairway. The park proposed to exchange Tract 571, a 0.38 of an acre parcel of land that no longer contains values for which the park was established.

The inclusion of the above-mentioned tracts will allow for proper management of park lands.

Dated: December 20, 2001.
Pat Phelan,
Acting Regional Director, Northeast Region.

[FR Doc. 02-4845 Filed 2-27-02; 8:45 am]

BILLING CODE 4310-70-P